DEPARTMENT OF COMMERCE

International Trade Administration

Alaska Department of Fish & Game, et al.; Notice of Consolidated Decision on Applications for Duty-Free Entry of Scientific Instruments

This is a decision consolidated pursuant to section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Comments: None received. Decision: Approved. No instrument of equivalent scientific value to the foreign instruments described below, for such purposes as each is intended to be used, is being manufactured in the United States.

Docket Number: 02-034. Applicant: Alaska Department of Fish & Game, Anchorage, AK 99518. Instrument: (Two) Digital Fish Measuring Boards, Model FMB IV/64/10. Manufacturer: Limnoterra Ltd., Canada. Intended Use: See notice at 67 FR 52944, August 14, 2002. Reasons: The foreign instrument provides measurement and recording of fish length and weight which can be downloaded to a field-operated PC after a sample of fish has been measured. Advice received from: National Institutes of Health, August 27, 2002.

Docket Number: 02-038. Applicant: U.S. Department of Agriculture, Fargo, ND 58105. Instrument: Q Pix Colony Picker System, Model QPix2. Manufacturer: Genetix Ltd., United Kingdom. Intended Use: See notice at 67 FR 55198, August 28, 2002. Reasons: The foreign instrument provides a unique multi-tasking robotic system for picking, gridding and rearraying specific cell colonies with a rapid picking rate of 3500 colonies per hour and very high throughput. Advice received from: National Institutes of Health, August 27, 2002.

The National Institutes of Health advises in its memoranda that (1) the capabilities of each of the foreign instruments described above are pertinent to each applicant's intended purpose and (2) it knows of no domestic instrument or apparatus of equivalent scientific value for the intended use of each instrument.

We know of no other instrument or apparatus being manufactured in the United States which is of equivalent scientific value to any of the foreign instruments.

Gerald A. Zerdy,
Program Manager, Statutory Import Programs Staff.

[FR Doc. 02-24781 Filed 9-27-02; 8:45 am]

BILLING CODE 3510-DS-P